FEDERAL TRADE COMMISSION

Granting of Request for Early Termination of the Waiting Period Under the Premerger

Notification Rules

Section 7A of the Clayton Act, 15 U.S.C. 18a, as added by Title II of the Hart-Scott- Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
April 1, 2016 thru April 30, 2016
04/01/2016
20160878 | G | MBK Partners Ltd.; Doosan Infracore Co., Ltd.; MBK Partners Ltd.
20160887 | G | Nordic Capital VIII Beta, L.P.; Genstar Capital Partners VI, L.P.; Nordic Capital VIII Beta, L.P.
20160900 | G | EMCOR Group, Inc.; Cadent Energy Partners II, L.P.; EMCOR Group, Inc.
20160901 | G | AEA Investors Fund V LP; Audax Private Equity Fund III, L.P.; AEA Investors Fund V LP.
20160903 | G | Stuart W. Lang; Checkpoint Systems, Inc.; Stuart W. Lang.
20160904 | G | Donald G. Lang; Checkpoint Systems, Inc.; Donald G. Lang.
20160905 | G | Micro Focus International plc; HGGC Fund II, L.P.; Micro Focus International plc.
20160908 | G | UACJ Corporation; Yogen Rahangdale; UACJ Corporation.
20160909 | G | AbbVie Inc.; C.H. Boehringer Sohn AG & Co. KG; AbbVie Inc.
20160921 | G | Dynegy Inc.; ENGIE S.A.; Dynegy Inc.
04/04/2016
20160862 | G | VCA Inc.; Companion Animal Practices, North America; VCA Inc.
20160922 | G | Precision Medicine Group, Inc.; Patricia Devitt Risse; Precision Medicine Group, Inc.
04/05/2016
20160917 | G | Nestle S.A.; Guthy-Renker Partners, Inc.; Nestle S.A.
04/06/2016
20160875 | G | Searchlight Capital II PV, L.P.; Prospect Capital Corporation; Searchlight Capital II PV, L.P.
20160894 | G | Celtic Holdings I Limited; County Line Pharmaceuticals, LLC; Celtic Holdings I Limited.
04/07/2016
20160105 | G | Gannett Co., Inc.; Journal Media Group, Inc; Gannett Co., Inc.
20160907 | G | TBC Offshore Ltd.; Cypress Semiconductor Corporation; TBC Offshore Ltd.
04/08/2016
20160852 | G | Deutsche Telekom AG; Telapex, Inc.; Deutsche Telekom AG.
20160858 | G | Deutsche Telekom AG; Continuum 700 LLC; Deutsche Telekom AG.
20160859 | G | Deutsche Telekom AG; Cavalier Wireless, LLC; Deutsche Telekom AG.
20160926 | G | Alejandro Weinstein; Justin and Shila Farmer; Alejandro Weinstein.
20160931 | G | Reyes Holdings, L.L.C.; The Coca-Cola Company; Reyes Holdings, L.L.C.
20160933 | G | Jose Minski; Justin and Shila Farmer; Jose Minski.
20160942 | G | Dustin Moskovitz; Asana, Inc.; Dustin Moskovitz.
20160943 | G | Ningbo Huaxiang Electronic Co., Ltd.; Xiaofeng Zhou; Ningbo Huaxiang Electronic Co., Ltd.
20160947 | G | Kyocera Corporation; Thomas J. Haag; Kyocera Corporation.
20160955 | G | Stantec Inc.; MWH Global, Inc.; Stantec Inc.
20160965 | G | Alejandro Weinstein; Ken and Susan Whitman; Alejandro Weinstein.
20160966 | G | Jose Minski; Ken and Susan Whitman; Jose Minski.
04/11/2016
20160946 | G | WL Ross Holding Corp.; TPG VI DE AIV II, L.P.; WL Ross Holding Corp.
20160951 | G | Wilco Acquisition, LP; ATI Physical Therapy Holdings, LLC; Wilco Acquisition, L.P.
04/12/2016
20151212 | G | Iron Mountain Incorporated; Recall Holdings Limited; Iron Mountain Incorporated.
04/13/2016
20160932 | G | Pinnacle Entertainment, Inc.; Cannery Casino Resorts, LLC; Pinnacle Entertainment, Inc.
20160936 | G | Terawatt Holdings, LP; Dynegy Inc.; Terawatt Holdings, L.P.
20160945 | G | Harbert Power Fund V, LLC; LS Power Equity Partners II, L.P.; Harbert Power Fund V, LLC.
20160950 | G | EQT VII (No. 1) Limited Partnership; D2 ApS; EQT VII (No. 1) Limited Partnership.
04/15/2016
20160924 | G | Allscripts Healthcare Solutions, Inc.; Genstar Capital Partners V, L.P.; Allscripts Healthcare Solutions, Inc.
20160929 | G | Fiera Capital Corporation; Nitin Kumbhani; Fiera Capital Corporation.
20160959 | G | Terrence Cole; Enhanced Equity Fund, L.P.; Terrence Cole.
20160960 | G | Mark Steinberg; Enhanced Equity Fund, L.P.; Mark Steinberg.
20160968 | G | Ally Financial Inc.; TradeKing Group, Inc.; Ally Financial Inc.
20160975 | G | Steve S. Hong; Ennis, Inc.; Steve S. Hong.
04/18/2016
20160785 | G | PBF Energy Inc.; Plains All American Pipeline, L.P.; PBF Energy Inc.
20160949 | G | CHRISTUS Health; Trinity Mother Frances Health System; CHRISTUS Health.
20160992 | G | Oskar Blues Brewery Holding Co LLC; Joseph Jay Michael Redner; Oskar Blues Brewery Holding Co LLC.
04/19/2016
20160948 | G | Godrej & Boyce Manufacturing Company Limited; Strength of Nature, LLC; Godrej & Boyce Manufacturing Company Limited.
04/20/2016
20160919 | G | Starboard Leaders Fund LP; Yahoo! Inc.; Starboard Leaders Fund LP.
20160935 | G | Nasdaq, Inc.; Deutsche Borse AG; Nasdaq, Inc.
20160937 | G | Mercury Systems, Inc.; Microsemi Corporation; Mercury Systems, Inc.
20160952 | G | Markit Ltd.; IHS Inc.; Markit Ltd.
20160953 | G | SA Compagnie Industrielle de Delle; Alcoa, Inc.; SA Compagnie Industrielle de Delle.
20160954 | G | TransCanada Corporation; Dominion Resources, Inc; TransCanada Corporation.
20160961 | G | NVLX Holdings, LLC; Carl A. Allen; NVLX Holdings, LLC.
04/21/2016
20160930 | G | KKR North America Fund XI, L.P.; Marvell Technology Group Ltd.; KKR North America Fund XI, L.P.
04/22/2016
20160974 | G | International Business Machines Corporation; RLH Bluewolf Holding LLC; International Business Machines Corporation.
20160994 | G | Halyard Health, Inc.; Linden Capital Partners LP; Halyard Health, Inc.
20160996 | G | CEB Inc.; Leeds Equity Partners V, L.P.; CEB Inc.
20160998 | G | Sheser Creek Company LLC; Single Source, Inc.; Sheser Creek Company LLC.
20161005 | G | Foundation Capital V, L.P.; Venafi, Inc.; Foundation Capital V, L.P.
20161008 | G | Richard G. Haworth; Janice Kercham Feldman; Richard G. Haworth.
20161009 | G | Steel Partners Holdings, L.P.; SL Industries, Inc.; Steel Partners Holdings, L.P.
20161013 | G | Legrand S.A.; Michael K. Moore; Legrand S.A.
20161015 | G | The Yokohama Rubber Co., Ltd.; KKR Asian Fund L.P.; The Yokohama Rubber Co., Ltd.
20161017 | G | Coast Range Buyer, LLC; Campbell Timber Fund II, L.P.; Coast Range Buyer, LLC.
04/25/2016
20160928 | G | Oak Hill Capital Partners IV (Onshore), L.P.; Riverside Fund IV, LP; Oak Hill Capital Partners IV (Onshore), L.P.
20160940 | G | Rosa Anna Magno Garavoglia; Societe des Produits Marnier-Lapostolle; Rosa Anna Magno Garavoglia.
20160962 | G | Arsenal Capital Partners III LP; Robert Marc Skalla; Arsenal Capital Partners III LP.
20160963 | G | Arsenal Capital Partners III LP; Russell Eugene Skalla; Arsenal Capital Partners III LP.
20160967 | G | ABRY Partners VIII, L.P.; Cerca Acquisitions I, LLC; ABRY Partners VIII, L.P.
04/26/2016
20160972 | G | Nasdaq, Inc.; BoardVantage, Inc.; Nasdaq, Inc.
04/28/2016
20160938 | G | Coherent, Inc.; Rofin-Sinar Technologies Inc.; Coherent, Inc.
20160980 | G | Compagnie De Saint-Gobain; Schenker-Winkler Holding AG; Compagnie De Saint-Gobain.
20161012 | G | Brocade Communications Systems, Inc.; Ruckus Wireless, Inc.; Brocade Communications Systems, Inc.
04/29/2016
20161000 | G | FinTech Acquisition Corp.; FTVentures III, L.P.; FinTech Acquisition Corp.
20161043 | G | Corning Incorporated; Alliance Fiber Optic Products, Inc.; Corning Incorporated.
May 1, 2016 thru May 31, 2016
05/03/2016
20161006 | G | Al Global Investments & Cy SCA; Nuplex Industries Limited; Al Global Investments & Cy SCA.
20161014 | G | Providence Equity Partners VII USRPHC L.P.; EdgeConnex, Inc.; Providence Equity Partners VII USRPHC L.P.
20161032 | G | Peak Rock Capital Fund LP; Hormel Foods Corporation; Peak Rock Capital Fund LP.
20161045 | G | BBH Capital Partners QP IV, L.P.; EdgeConnex, Inc.; BBH Capital Partners QP IV, L.P.
05/06/2016
20160971 | G | Berwind Corporation; Mangar Industries, Inc.; Berwind Corporation.
20161004 | G | Nippon Telegraph and Telephone Corporation; Denali Holding Inc.; Nippon Telegraph and Telephone Corporation.
20161020 | G | Tsinghua Holdings Co., Ltd.; Marvell Technology Group Ltd.; Tsinghua Holdings Co., Ltd.
20161030 | G | KBHS Group Holdings, LLC; American Capital, Ltd.; KBHS Group Holdings, LLC.
20161039 | G | Riverstone/Carlyle Global Energy and Power Fund IV (FT), L.P; Sanjel Corporation; Riverstone/Carlyle Global Energy and Power Fund IV (FT), L.P.
20161040 | G | Riverstone Global Energy and Power Fund VI, L.P.; Sanjel Corporation; Riverstone Global Energy and Power Fund VI, L.P.
05/09/2016
20160856 | G | United Natural Foods, Inc.; David H. Anderson, Sr.; United Natural Foods, Inc.
20161052 | G | Restoration Hardware Holdings, Inc.; Design Investors WW Acquisition Company, LLC; Restoration Hardware Holdings, Inc.
20161055 | G | AXA LBO Fund V Supplementary FPCI; Halifax Capital Partners III, L.P.; AXA LBO Fund V Supplementary FPCI.
20161056 | G | Blackstone Capital Partners (Cayman II) VI L.P.; Hewlett Packard Enterprise Co.; Blackstone Capital Partners (Cayman II) VI L.P.
20161057 | G | Roger S. Penske; Francis I. McGowen; Roger S. Penske.
20161058 | G | Blue Sea Capital Fund I LP; NSi Holdings, Inc.; Blue Sea Capital Fund I LP.
20161059 | G | Merit Energy Investments, LP; Marathon Oil Corporation; Merit Energy Investments, LP.
20161060 | G | Merit 2014 MMGI, LP; Marathon Oil Corporation; Merit 2014 MMGI, LP.
20161061 | G | Assured Guaranty Ltd.; CIFG Holding Inc.; Assured Guaranty Ltd.
20161067 | G | Glenn B. Cooke; Paine & Partners Capital Fund III AIV, L.P.; Glenn B. Cooke.
20161069 | G | Now Inc.; Tony S. Cercy; Now Inc.
20161070 | G | Unum Group; H&J Capital, LLC; Unum Group.
20161075 | G | Hennessy Capital Acquisition Corp. II; USI Senior Holdings, Inc.; Hennessy Capital Acquisition Corp. II.
05/10/2016
20160888 | G | McKesson Corporation; Frazier Healthcare VI, L.P.; McKesson Corporation.
20161010 | G | Century Tokyo Leasing Corporation; CSI Leasing, Inc.; Century Tokyo Leasing Corporation.
20161026 | G | Thomas M. Rutledge; CCH I, LLC; Thomas M. Rutledge.
20161065 | G | Ford Motor Company; EMC Corporation; Ford Motor Company.
20161084 | G | GP Investments Acquisition Corp.; WKI Holding Company, Inc.; GP Investments Acquisition Corp.
05/12/2016
20161028 | G | JANA Offshore Partners, Ltd.; Team Health Holdings, Inc.; JANA Offshore Partners, Ltd.
20161029 | G | JANA Nirvana Offshore Fund, Ltd.; Team Health Holdings, Inc.; JANA Nirvana Offshore Fund, Ltd.
05/13/2016
20160999 | G | Kestra Financial Holdings LP; Madison Dearborn Capital Partners VI-A, L.P.; Kestra Financial Holdings LP.
20161047 | G | Huatai Securities Co., Ltd.; AqGen Liberty Holdings LLC; Huatai Securities Co., Ltd.
20161048 | G | Allergan plc; Sosei Group Corporation; Allergan plc.
20161094 | G | Linsalata Capital Partners Fund VI, L.P.; Eliezer Elbaz; Linsalata Capital Partners Fund VI, L.P.
20161095 | G | Linsalata Capital Partners Fund VI, L.P.; Sol Bonan; Linsalata Capital Partners Fund VI, L.P.
20161100 | G | Genstar Capital Partners VII, L.P.; Windjammer Senior Equity Fund III, L.P.; Genstar Capital Partners VII, L.P.
20161105 | G | ABRY Partners VIII, L.P.; Oliver Street Dermatology Holdings, LLC; ABRY Partners VIII, L.P.
20161112 | Y | Polaris Investment Holdings, L.P.; MPH Acquisition Holdco, L.P.; Polaris Investment Holdings, L.P.
20161114 | G | Mitel Networks Corporation; Polycom, Inc.; Mitel Networks Corporation.
05/16/2016
20161031 | G | State Street Corporation; General Electric Company; State Street Corporation.
20161106 | G | Stichting Administratiekantoor Westend; Clearlake Capital Partners III, L.P.; Stichting Administratiekantoor Westend.
20161131 | G | GI Partners Fund IV L.P.; Far Niente Wine Estates LLC; GI Partners Fund IV L.P.
05/17/2016
20160964 | G | TransCanada Corporation; Columbia Pipeline Group, Inc.; TransCanada Corporation.
20161035 | G | Mr. Tianqiao Chen and Ms. Chrissy Qian Qian Luo; Sotheby's; Mr. Tianqiao Chen and Ms. Chrissy Qian Qian Luo.
20161053 | G | The Hearst Family Trust; Complex Media, Inc.; The Hearst Family Trust.
20161054 | G | Verizon Communications Inc.; Complex Media, Inc.; Verizon Communications Inc.
20161092 | G | SES S.A.; O3b Networks Limited; SES S.A.
20161097 | G | Kelso Hammer Co-Investment, L.P.; Carolyn A. Swanson; Kelso Hammer Co-Investment, L.P.
20161102 | G | Oracle Corporation; Opower, Inc.; Oracle Corporation.
20161107 | G | Tokyo Electric Power Company Holdings, Incorporated; JERA Co., Inc.; Tokyo Electric Power Company Holdings, Incorporated.
20161113 | G | Marlin IV Cayman AIV, L.P.; Teradata Corporation; Marlin IV Cayman AIV, L.P.
20161125 | G | LANXESS AG; The Chemours Company; LANXESS AG.
05/18/2016
20161108 | G | Investindustrial V, L.P.; Investindustrial III, L.P.; Investindustrial V, L.P.
20161111 | G | Investindustrial V, L.P.; Reichhold Cayman LP; Investindustrial V, L.P.
05/19/2016
20161068 | G | Cardinal Health Inc.; Curaspan Health Group, Inc.; Cardinal Health Inc.
20161076 | G | Rexnord Corporation; Industrial Growth Partners IV, L.P.; Rexnord Corporation.
20161081 | G | Omnicom Group Inc.; Southfield BioPharm Investment, LLC; Omnicom Group Inc.
20161085 | G | Zhuhai Hengxin Fengye Technology LLC; Lexmark International, Inc.; Zhuhai Hengxin Fengye Technology LLC.
20161109 | G | Gildan Activewear Inc.; Ennis, Inc.; Gildan Activewear Inc.
20161118 | G | TPG Partners VI, L.P.; Endo International plc; TPG Partners VI, L.P.
20161127 | G | Seven & i Holdings Co., Ltd.; CST Brands, Inc.; Seven & i Holdings Co., Ltd.
05/20/2016
20161103 | G | The Veritas Capital Fund V, L.P.; Verisk Analytics, Inc.; The Veritas Capital Fund V, L.P.
20161115 | G | Oracle Corporation; Textura Corporation; Oracle Corporation.
20161129 | G | Stabilus S.A.; AB SKF; Stabilus S.A.
20161130 | G | Todd L. Boehly; Eldridge Investors, LLC; Todd L. Boehly.
20161134 | G | Genstar Capital Partners VII, L.P.; IHS Inc.; Genstar Capital Partners VII, L.P.
20161135 | G | Vonage Holdings Corp.; Nexmo Inc.; Vonage Holdings Corp.
20161141 | G | Hormel Foods Corporation; Justin's, LLC; Hormel Foods Corporation.
20161142 | G | RoundTable Healthcare Partners IV, L.P.; Symmetry Surgical Inc.; RoundTable Healthcare Partners IV, L.P.
20161144 | G | Clayton, Dubilier & Rice Fund IX, L.P.; Kalle Luxembourg S.a.r.l.; Clayton, Dubilier & Rice Fund IX, L.P.
20161150 | G | Sinocare Inc.; Polymer Technology Systems, Inc.; Sinocare Inc.
20161167 | G | Nippon Steel & Sumitomo Metal Corporation; Nisshin Steel Co., Ltd.; Nippon Steel & Sumitomo Metal Corporation.
05/23/2016
20161110 | G | Francisco Partners III (Cayman), L.P.; Brambles Limited; Francisco Partners III (Cayman), L.P.
20161140 | G | QMP Insurance Holdings, LLC; Old National Bancorp; QMP Insurance Holdings, LLC.
05/24/2016
20161087 | G | Energy Capital Partners III-A, LP; Sunnova Energy Corporation; Energy Capital Partners III-A, LP.
20161137 | G | One Rock Capital Partners, LP; Chevron Corporation; One Rock Capital Partners, LP.
05/25/2016
20161088 | G | AbbVie Inc.; Stemcentrx, Inc.; AbbVie Inc.
20161090 | G | Brian Slingerland and Emily Paige Adams; AbbVie Inc.; Brian Slingerland and Emily Paige Adams.
20161091 | G | Scott J. Dylla and Melodie Dylla; AbbVie Inc.; Scott J. Dylla and Melodie Dylla.
20161151 | G | Clearlake Capital Partners IV, L.P.; Thoma Cressey Fund VIII, L.P.; Clearlake Capital Partners IV, L.P.
20161161 | G | EQT Infrastructure II Limited Partnership; Littlejohn Fund IV, L.P.; EQT Infrastructure II Limited Partnership.
05/26/2016
20161062 | G | Glen A. Taylor; Staples Inc.; Glen A. Taylor.
20161139 | G | U.S. TelePacific Holdings Corp.; DSCI Holdings Corporation; U.S. TelePacific Holdings Corp.
05/27/2016
20161064 | G | Apax VIII-B L.P.; Accenture plc; Apax VIII-B L.P.
20161072 | G | XIO Fund I LP; S&P Global Inc.; XIO Fund I LP.
20161173 | G | L.S. Power Equity Partners III, L.P.; NRG Energy, Inc.; L.S. Power Equity Partners III, L.P.
20161175 | G | Michael F. Neidorff; Centene Corporation; Michael F. Neidorff.
20161177 | G | Clayton Dubilier & Rice Fund IX, L.P.; Brynwood Partners VI L.P.; Clayton Dubilier & Rice Fund IX, L.P.
20161182 | G | Carl C. Icahn; Allergan plc; Carl C. Icahn.
20161183 | G | Spire Inc.; Sempra Energy; Spire Inc.
June 1, 2016 thru June 30, 2016
06/01/2016
20161155 | G | Aon plc; Onex Partners III LP; Aon plc.
20161188 | G | Sinochem Group; American Securities Partners VI, L.P.; Sinochem Group.
20161189 | G | Olympus Growth Fund VI, L.P.; Road Infrastructure Investment Holdings, Inc.; Olympus Growth Fund VI, L.P.
20161198 | G | FS Equity Partners VII, L.P.; Audax Private Equity Fund III, L.P.; FS Equity Partners VII, L.P.
06/02/2016
20161063 | G | Hainan Cihang Charitable Foundation; Ingram Micro Inc.; Hainan Cihang Charitable Foundation.
20161096 | G | Great Hill Equity Partners V, L.P.; EvolveIP Holdings, LLC; Great Hill Equity Partners V, L.P.
20161126 | G | Ironwood Pharmaceuticals, Inc.; AstraZeneca PLC; Ironwood Pharmaceuticals, Inc.
20161203 | G | Energizer Holdings, Inc.; Trivest Fund V, L.P.; Energizer Holdings, Inc.
06/03/2016
20161146 | G | Hitachi, Ltd.; Jeffrey D. Cowan; Hitachi, Ltd.
20161147 | G | Hitachi, Ltd.; Gregory E. Larson; Hitachi, Ltd.
20161185 | G | BDCM Opportunity Fund IV, L.P.; Investindustrial V, L.P.; BDCM Opportunity Fund IV, L.P.
20161197 | G | Thomas Jefferson University; Rothman Specialty Hospital Investment, LLC; Thomas Jefferson University.
06/06/2016
20161156 | G | Global Eagle Entertainment Inc.; ABRY Partners VII, L.P.; Global Eagle Entertainment Inc.
20161164 | G | Mylan N.V.; RoundTable Healthcare Partners III, L.P.; Mylan N.V.
20161174 | G | Corvex Master Fund LP; Pandora Media, Inc.; Corvex Master Fund LP.
20161201 | G | General Atlantic Partners (Bermuda) III, L.P.; Argus Media Limited; General Atlantic Partners (Bermuda) III, L.P.
20161204 | G | Dr. Guanqiu Lu; The Superior Fund, L.P.; Dr. Guanqiu Lu.
20161209 | G | TransDigm Group Incorporated; Mr. Clifford Lane; TransDigm Group Incorporated.
20161210 | G | Magellan Health, Inc.; Armed Forces Services Corporation; Magellan Health, Inc.
20161211 | G | Snow Phipps II AIV, L.P.; BVIP Fund VIII, L.P.; Snow Phipps II AIV, L.P.
20161213 | G | Melinda K. Holman; Gregory A. Goodwin; Melinda K. Holman.
20161214 | G | California Credit Union; North Island Financial Credit Union; California Credit Union.
20161225 | G | HNVR Jerseyco Limited; TUI AG; HNVR Jerseyco Limited.
20161226 | G | Pfizer Inc.; Anacor Pharmaceuticals, Inc.; Pfizer Inc.
20161232 | G | Permira V L.P. 2; Yoshimune Noda; Permira V L.P. 2.
20161236 | G | Carlisle Companies Incorporated; A. Bruce Mainwaring; Carlisle Companies Incorporated.
20161244 | G | Madison Dearborn Capital Partners VII-A, L.P.; PHW Equity Investors, L.P.; Madison Dearborn Capital Partners VII-A, L.P.
06/07/2016
20161170 | G | OSI Group, LLC; Creo Capital Partners, LP; OSI Group, LLC.
20161239 | G | New Mountain Partners IV, L.P.; PG-ACP Holdings, L.P.; New Mountain Partners IV, L.P.
06/10/2016
20161171 | G | Elliott Associates, L.P.; Mitel Networks Corporation; Elliott Associates, L.P.
20161248 | G | The Goldman Sachs Group Inc.; Mosley Holdings, Inc.; The Goldman Sachs Group Inc.
20161252 | G | Total S.A.; Saft Groupe S.A.; Total S.A.
20161254 | G | Softbank Group Corp.; Genie Global, Inc.; Softbank Group Corp.
20161255 | G | Softbank Group Corp.; The Kroger Co.; Softbank Group Corp.
20161258 | G | DeVry Education Group Inc.; Alert Global Media Holdings, LLC; DeVry Education Group Inc.
20161262 | G | Genstar Capital Partners VI, L.P.; FactSet Research Systems Inc.; Genstar Capital Partners VI, L.P.
06/13/2016
20161168 | G | Valline S.r.l.; The Medicines Company; Valline S.r.l.
20161260 | G | ANRP II (AIV P), L.P.; Dale Brown; ANRP II (AIV P), L.P.
20161261 | G | ANRP II (AIV P), L.P.; Cary Brown; ANRP II (AIV P), L.P.
20161263 | G | Dental Service of Massachusetts, Inc.; Advantage Consolidated, LLC; Dental Service of Massachusetts, Inc.
06/14/2016
20160562 | G | GTCR Fund X/A AIV LP; UBM plc; GTCR Fund X/A AIV LP.
20161163 | G | BVIP Fund VIII, L.P.; Keith A. Stinson; BVIP Fund VIII, L.P.
20161165 | G | BVIP Fund VIII, L.P.; Glenn F. Stinson; BVIP Fund VIII, L.P.
20161196 | G | Nanya Technology Corporation; Micron Technology, Inc.; Nanya Technology Corporation.
20161217 | G | Agnaten SE; Krispy Kreme Doughnuts, Inc.; Agnaten SE.
20161257 | G | KBR, Inc.; Wyle Inc.; KBR, Inc.
20161259 | G | BDCM Opportunity Fund III, L.P.; Investindustrial V L.P.; BDCM Opportunity Fund III, L.P.
20161269 | G | C-III Partners LLC; Resource America, Inc.; C-III Partners LLC.
06/15/2016
20161229 | G | AT&T Inc.; MDCP VI-A Global Investments LP; AT&T Inc.
06/16/2016
20161186 | G | Sequential Brands Group, Inc.; Jirka Rysavy; Sequential Brands Group, Inc.
20161218 | G | Providence Equity Partners VII OEConnection L.P.; Ford Motor Company; Providence Equity Partners VII OEConnection L.P.
20161219 | G | Providence Equity Partners VII OEConnection L.P.; General Motors Company; Providence Equity Partners VII OEConnection L.P.
06/17/2016
20160092 | G | Heidelberg Cement AG; Italcementi S.p.A.; Heidelberg Cement AG.
20161190 | G | Energy Transfer Equity, L.P.; DCP Midstream Partners, LP; Energy Transfer Equity, L.P.
20161267 | G | Stichting Administratiekantoor Westend; Thrive Market, Inc.; Stichting Administratiekantoor Westend.
20161271 | G | Range Resources Corporation; Memorial Resource Development Corp.; Range Resources Corporation.
20161273 | G | Newco; Frazier Healthcare (Cayman) VI, L.P.; Newco.
20161274 | G | Interogo Foundation; Stichting Ingka Foundation; Interogo Foundation.
20161276 | G | Francisco Partners IV, L.P.; Sanjeev Malaney; Francisco Partners IV, L.P.
20161277 | G | Cargill Incorporated; Five Star Custom Foods, Ltd.; Cargill Incorporated.
20161281 | G | PAI Europe VI-1 FCPI; EQT VI (No.1) Limited Partnership; PAI Europe VI-1 FCPI.
20161283 | G | Border States Industries, Inc.; William E. DeLoache, III; Border States Industries, Inc.
20161287 | G | salesforce.com, inc.; Demandware, Inc.; salesforce.com, inc.
20161292 | G | Shiseido Company, Limited; Richard M. DeVos; Shiseido Company, Limited.
20161293 | G | Shiseido Company, Limited; Voting Shares Trust; Shiseido Company, Limited.
20161299 | G | FS Equity Partners VII, L.P.; Roark Capital Partners, LP; FS Equity Partners VII, L.P.
20161306 | G | Telhio Credit Union, Inc.; Chaco Credit Union, Inc.; Telhio Credit Union, Inc.
06/20/2016
20161181 | G | Comcast Corporation; Jeffrey Katzenberg; Comcast Corporation.
20161246 | G | MTY Food Group Inc.; Sam and Clara Serruya; MTY Food Group Inc.
20161291 | G | Clayton Dubilier & Rice Fund IX, L.P.; White Mountains Insurance Group Ltd.; Clayton Dubilier & Rice Fund IX, L.P.
06/21/2016
20161265 | G | Clayton, Dubilier & Rice Fund IX, L.P.; Lineage Investments, Inc.; Clayton, Dubilier & Rice Fund IX, L.P.
20161282 | G | Bain Capital Fund XI, L.P.; Navicure, Inc.; Bain Capital Fund XI, L.P.
20161296 | G | FREIF II Bravo AIV L.P.; Plains All American Pipeline, L.P.; FREIF II Bravo AIV L.P.
20161297 | G | General Electric Company; Plains All American Pipeline, L.P.; General Electric Company.
06/22/2016
20161215 | G | Starboard Value and Opportunity Fund Ltd.; Staples, Inc.; Starboard Value and Opportunity Fund Ltd.
20161253 | G | NICE Systems, Ltd.; inContact, Inc.; NICE Systems, Ltd.
20161264 | G | Thoma Bravo Discover Fund, L.P.; TA XI L.P.; Thoma Bravo Discover Fund, L.P.
20161266 | G | Golden Gate Capital Opportunity Fund LP; Paul A. Nazzaro; Golden Gate Capital Opportunity Fund LP.
20161272 | G | Thoma Bravo Discover Fund, L.P.; Elemica, Inc.; Thoma Bravo Discover Fund, L.P.
20161284 | G | Vista Equity Partners Fund VI, L.P.; Marketo, Inc.; Vista Equity Partners Fund VI, L.P.
20161288 | G | Vista Equity Partners Fund VI, L.P.; Ping Identity Corporation; Vista Equity Partners Fund VI, L.P.
20161295 | G | Accel-KKR Capital Partners V, LP; SciQuest, Inc.; Accel-KKR Capital Partners V, LP.
06/23/2016
20161300 | G | Platinum Equity Capital Partners III, L.P.; Electro Rent Corporation; Platinum Equity Capital Partners III, L.P.
20161301 | G | PPG Industries, Inc.; Platinum Equity Capital Partners III, L.P.; PPG Industries, Inc.
06/24/2016
20161249 | G | Pamlico Capital III, L.P.; Kenneth A. Barnett; Pamlico Capital III, L.P.
20161302 | G | Thermo Fisher Scientific Inc.; FEI Company; Thermo Fisher Scientific Inc.
20161304 | G | Zimmer Biomet Holdings, Inc.; LDR Holding Corporation; Zimmer Biomet Holdings, Inc.
20161307 | G | Veolia Environnement S.A.; The Chemours Company; Veolia Environnement S.A.
20161308 | G | Platinum Equity Capital Partners III, L.P.; ConAgra Foods, Inc.; Platinum Equity Capital Partners III, L.P.
20161317 | G | The Resolute Fund III, L.P.; PA-LLC Holdings, LLC; The Resolute Fund III, L.P.
20161318 | Y | Wind Point Partners VIII-A, L.P.; LongueVue Capital Partners II, LP; Wind Point Partners VIII-A, L.P.
20161319 | G | The Resolute Fund III, L.P.; Yaron Rosenthal; The Resolute Fund III, L.P.
20161323 | G | FMC Technologies, Inc.; Technip S.A.; FMC Technologies, Inc.
20161324 | G | Technip S.A.; FMC Technologies, Inc.; Technip S.A.
20161328 | G | Olympus Growth Fund VI, L.P.; AmSpec Holding Corp; Olympus Growth Fund VI, L.P.
20161329 | G | Deutsche Telekom AG; AT&T Inc.; Deutsche Telekom AG.
20161330 | G | Symrise AG; Timothy J. Gamble; Symrise AG.
20161331 | G | Riverstone Global Energy and Power Fund V (FT), L.P.; Talen Energy Corporation; Riverstone Global Energy and Power Fund V (FT), L.P.
06/27/2016
20161313 | G | Dr. h.c. Friede Springer; eMarketer, Inc.; Dr. h.c. Friede Springer.
06/28/2016
20161314 | G | Hardwoods Distribution Inc.; David Hughes; Hardwoods Distribution Inc.
20161338 | G | SCI Associates LLC; Platinum Equity Capital Partners II; SCI Associates LLC.
06/29/2016
20161316 | G | Project Alpha Holding, LLC; Qlik Technologies Inc.; Project Alpha Holding, LLC.
20161325 | G | GTCR Fund XI/B LP; Serent Capital, L.P.; GTCR Fund XI/B LP.
06/30/2016
20161132 | G | Berkshire Hathaway Inc.; Shultz Steel Company; Berkshire Hathaway Inc.
20161270 | G | Mednax, Inc.; Cardon Healthcare Holdings, LLC; Mednax, Inc.
20161280 | G | Sierra Private Investments L.P.; Xura, Inc.; Sierra Private Investments L.P.
20161315 | G | Open Text Corporation; Recommind, Inc.; Open Text Corporation.
20161320 | G | World Fuel Services Corporation; Associated Petroleum Products, Inc.; World Fuel Services Corporation.
20161326 | G | Roark Capital Partners III LP; Roark Capital Partners II AIV AG, LP; Roark Capital Partners III LP.
20161327 | G | Roark Capital Partners II AIV AG, LP; Roark Capital Partners III LP; Roark Capital Partners II AIV AG, LP.
20161345 | G | Old Mutual plc; LMRK Intermediary, Inc.; Old Mutual plc.
July 1, 2016 thru July 31, 2016
07/01/2016
20161279 | G | General Atlantic Partners 93, L.P.; TA XI L.P.; General Atlantic Partners 93, L.P.
20161336 | G | Shire plc; Pfizer Inc.; Shire plc.
20161348 | G | Par Pacific Holdings, Inc.; Black Elk Refining, LLC; Par Pacific Holdings, Inc.
20161355 | G | Terumo Corporation; Sequent Medical, Inc.; Terumo Corporation.
20161361 | G | Hainan Cihang Charitable Foundation; gategroup Holding AG; Hainan Cihang Charitable Foundation.
20161362 | G | Oaktree Power Opportunities Fund IV, L.P.; Ronald P. Corio; Oaktree Power Opportunities Fund IV, L.P.
07/06/2016
20161278 | G | Ares Capital Corporation; American Capital, Ltd.; Ares Capital Corporation.
20161349 | G | Genstar Capital Partners VI, L.P.; William W. McNeal, Jr.; Genstar Capital Partners VI, L.P.
20161352 | G | Pirlo Energy Holdings, LLC; WDE Partners, LP; Pirlo Energy Holdings, LLC.
20161373 | G | Audax Private Equity Fund V-A, L.P.; Chesapeake Urology Associated, P.A.; Audax Private Equity Fund V-A, L.P.
07/07/2016
20161351 | G | Genstar Capital Partners VI, L.P.; Joseph M. Abbott; Genstar Capital Partners VI, L.P.
20161366 | G | Douglas Dynamics, Inc.; Peter Paul Dejana Family Trust dated 12/31/98; Douglas Dynamics, Inc.
20161374 | G | Randstad Holding nv; Ausy S.A.; Randstad Holding nv.
07/08/2016
20161098 | G | RELX PLC; Alert Holding Company, Inc.; RELX PLC.
20161099 | G | RELX NV; Alert Holding Company, Inc.; RELX NV.
20161157 | G | TiVo Inc.; Rovi Corporation; TiVo Inc.
20161158 | G | Rovi Corporation; TiVo Inc.; Rovi Corporation.
20161363 | G | Hamilton Lane Co-Investment Fund II L.P.; Kelly Julius; Hamilton Lane Co-Investment Fund II L.P.
20161372 | G | Gryphon Partners IV, L.P.; Lawler Foods, Inc.; Gryphon Partners IV, L.P.
07/11/2016
20161368 | G | BioScrip, Inc.; KRG Capital Fund IV, L.P.; BioScrip, Inc.
20161369 | G | UnitedHealth Group, Incorporated; Riverside Pediatric Group, P.C.; UnitedHealth Group, Incorporated.
20161387 | G | Audax Private Equity Fund V-A, L.P.; AEA Investors 2006 Fund L.P.; Audax Private Equity Fund V-A, L.P.
20161392 | G | Contura Energy, Inc.; Alpha Natural Resources, Inc.; Contura Energy, Inc.
20161397 | G | Sentinel Capital Partners V, L.P.; Levine Leichtman Capital Partners IV, L.P.; Sentinel Capital Partners V, L.P.
20161401 | G | Dentsu Inc.; Pegasus Partners IV, L.P.; Dentsu Inc.
07/13/2016
20161395 | G | Ronald O. Perelman; Elizabeth Arden, Inc.; Ronald O. Perelman.
20161396 | G | MIP III (ECI) AIV, L.P.; Deutsche Bank AG; MIP III (ECI) AIV, L.P.
20161402 | G | Steel Dynamics, Inc.; William David Upton, Jr.; Steel Dynamics, Inc.
20161405 | G | Carlyle Europe Partners IV, L.P.; Logoplaste Invest S.A.; Carlyle Europe Partners IV, L.P.
20161406 | G | NextEra Energy, Inc.; USPF III Leveraged Feeder, L.P.; NextEra Energy, Inc.
20161407 | G | BASF SE; Albemarle Corporation; BASF SE.
20161408 | G | Vedipar S.A.; JF Hillebrand Group AG; Vedipar S.A.
20161420 | G | Melrose Industries PLC; Nortek, Inc.; Melrose Industries PLC.
07/14/2016
20161334 | G | The Hearst Family Trust; MedHOK Holdco, Inc.; The Hearst Family Trust.
20161398 | G | Bio-Techne Corporation; Advanced Cell Diagnostics, Inc.; Bio-Techne Corporation.
20161403 | G | Kelso Investment Associates IX, L.P.; Tenex Capital Partners, L.P.; Kelso Investment Associates IX, L.P.
07/15/2016
20160408 | G | Tullett Prebon plc; ICAP Newco c/o ICAP plc; Tullett Prebon plc.
20161416 | G | Kion Group AG; DH Services Luxembourg Holding S.a.r.l.; Kion Group AG.
20161417 | G | American Securities Partners VII, L.P.; Canada Pension Plan Investment Board; American Securities Partners VII, L.P.
20161419 | G | KKR North America Fund XI, L.P.; RES Holding Company, LLC; KKR North America Fund XI, L.P.
20161421 | G | Packaging Corporation of America; Tim-Bar Corporation; Packaging Corporation of America.
20161426 | G | Datwyler Fuhrungs AG; Premier Farnell plc; Datwyler Fuhrungs AG.
20161434 | G | Kelso Investment Associates IX, L.P.; Pamlico Capital II, L.P.; Kelso Investment Associates IX, L.P.
20161435 | G | Andrew Fathollahi; Skullcandy, Inc.; Andrew Fathollahi.
07/18/2016
20161381 | G | Tencent Holdings Limited; Softbank Corp.; Tencent Holdings Limited.
20161412 | G | OnShore SPV; NXP Semiconductors N.V.; OnShore SPV.
20161427 | G | Summertime Holding Corp.; Enservio, Inc.; Summertime Holding Corp.
07/19/2016
20161376 | G | Reyes Holdings, L.L.C.; The Coca-Cola Company; Reyes Holdings, L.L.C.
20161428 | G | Axalta Coating Systems Ltd.; Dr. Myung K. Hong and Lorrie Y. Hong; Axalta Coating Systems Ltd.
20161429 | G | Appointive Distributing Trust A c/u SC Johnson '88 Trust # 1; Baby Holdings, LLC; Appointive Distributing Trust A c/u SC Johnson '88 Trust # 1.
20161445 | G | Synnex Corporation; Mr. Sameer Chawla; Synnex Corporation.
20161446 | G | Gannett Co., Inc.; ReachLocal, Inc.; Gannett Co., Inc.
07/20/2016
20161194 | G | H.I.G. Middle Market LBO Fund II, L.P.; Centric Group, L.L.C.; H.I.G. Middle Market LBO Fund II, L.P.
20161357 | G | Symantec Corporation; Bain Capital Fund XI, L.P.; Symantec Corporation.
20161391 | G | GameStop Corp.; David C. Shanks; GameStop Corp.
07/22/2016
20151293 | G | Koninklijke Ahold N.V.; Delhaize Group NV/SA; Koninklijke Ahold N.V.
20161364 | G | Verizon Communications Inc.; Telogis, Inc.; Verizon Communications Inc.
20161390 | G | Aramark; National Purchasing Corporation; Aramark.
20161399 | G | Orion US Holdings 1 L.P.; SunEdison, Inc.; Orion US Holdings 1 L.P.
20161444 | G | MRO Holdings Inc.; MCP I (FAS), LP; MRO Holdings Inc.
20161448 | G | Onex Partners IV LP; Paine & Partners Capital Fund III, LP; Onex Partners IV LP.
20161454 | G | Johann F. Graf; Leonard H. Ainsworth; Johann F. Graf.
20161459 | G | The Resolute Fund II, L.P.; ICV Partners II, L.P.; The Resolute Fund II, L.P.
20161464 | G | Delta Galil Industries Ltd.; V.F. Corporation; Delta Galil Industries Ltd.
20161465 | G | Odyssey Investment Partners Fund V, L.P.; W.R. Berkley Corporation; Odyssey Investment Partners Fund V, L.P.
07/25/2016
20161437 | G | Warburg Pincus Private Equity XI, L.P.; Dude Solutions Holdings, Inc.; Warburg Pincus Private Equity XI, L.P.
20161442 | G | Energy Spectrum Partners VII L.P.; Resolute Energy Corporation; Energy Spectrum Partners VII L.P.
07/26/2016
20161394 | G | Genstar Capital Partners VII, L.P.; Odyssey Investment Partners Fund IV, L.P.; Genstar Capital Partners VII, L.P.
20161413 | G | TEGNA Inc.; Great Hill Equity Partners IV, LP; TEGNA Inc.
20161450 | G | Francisco Partners IV, L.P.; Michael S. Dell; Francisco Partners IV, L.P.
07/27/2016
20151659 | G | Teva Pharmaceutical Industries Ltd.; Allergan plc; Teva Pharmaceutical Industries Ltd.
20160818 | G | Mylan N.V.; Meda AB; Mylan N.V.
20161487 | G | Honeywell International Inc.; Permira IV Continuing L.P. 2; Honeywell International Inc.
20161493 | G | Charlesbank Equity Fund VIII, Limited Partnership; Polyconcept Limited; Charlesbank Equity Fund VIII, Limited Partnership.
07/28/2016
20161447 | G | National General Holdings Corp.; Elara Holdings, Inc.; National General Holdings Corp.
07/29/2016
20160580 | G | Bain Capital Fund XI, L.P.; American Trailer Works, Inc.; Bain Capital Fund XI, L.P.
20161415 | G | FR XII Charlie AIV, L.P.; Cotton Creek Capital Partners II, L.P.; FR XII Charlie AIV, L.P.
20161418 | G | H.I.G. Capital Partners V, L.P.; Patrick J. Kavanaugh; H.I.G. Capital Partners V, L.P.
20161474 | G | Hapag-Lloyd AG; United Arab Shipping Company S.A.G.; Hapag-Lloyd AG.
20161481 | G | Smith & Wesson Holding Corporation; Stewart A. Taylor and Sheila G. Taylor; Smith & Wesson Holding Corporation.
20161483 | G | Kaapa Ethanol Holdings, LLC; Abengoa Bioenergy of Nebraska, LLC; Kaapa Ethanol Holdings, LLC.
20161489 | G | Gores Holdings, Inc.; Hostess Holdings, L.P.; Gores Holdings, Inc.
20161490 | G | TPG Partners VII, LP; RoundTable Healthcare Partners II, L.P.; TPG Partners VII, LP.
20161495 | G | Matson, Inc.; Evergreen Pacific Partners II, L.P.; Matson, Inc.
20161497 | G | Thoma Bravo Fund XII, L.P.; Imprivata, Inc.; Thoma Bravo Fund XII, L.P.
20161500 | G | Royal Dutch Shell plc; Explorer Pipeline Company; Royal Dutch Shell plc.
20161509 | G | Monotype Imaging Holdings, Inc.; Olapic, Inc.; Monotype Imaging Holdings, Inc.
20161512 | G | Massachusetts Mutual Life Insurance Company; Ares Commercial Real Estate Corporation; Massachusetts Mutual Life Insurance Company.

For Further Information Contact: Theresa Kingsberry Program Support Specialist, Federal Trade Commission Premerger Notification Office Bureau of Competition, Room CC-5301, Washington, DC 20024, (202) 326-3100.

By direction of the Commission.
Donald S. Clark,
Secretary.

[FR Doc. 2016-18915 Filed 8-9-16; 8:45 am]

BILLING CODE 6750-01-P